DEPARTMENT OF TRANSPORTATION

Federal Aviation Administration

14 CFR Part 39

[Docket No. FAA-2013-0370; Directorate Identifier 2013-NM-034-AD; Amendment 39-17711; AD 2013-26-02]

RIN 2120-AA64

Airworthiness Directives; Bombardier, Inc. Airplanes

AGENCY: Federal Aviation Administration (FAA), Department of Transportation (DOT).

ACTION: Final rule.

SUMMARY: We are adopting a new airworthiness directive (AD) for certain Bombardier, Inc. Model CL-600-2C10 (Regional Jet Series 700, 701, & 702), CL-600-2D15 (Regional Jet Series 705), and CL-600-2D24 (Regional Jet Series 900) airplanes. This AD was prompted by a report that traces of oil could be found in the crew oxygen system due to the use of incorrect pressure testing procedures during manufacturing. This AD requires cleaning the crew oxygen system. We are issuing this AD to detect and correct oil contaminants, which could cause an ignition and result in a fire in the oxygen system.

DATES: This AD becomes effective February 3, 2014.

The Director of the Federal Register approved the incorporation by reference of a certain publication listed in this AD as of February 3, 2014.

ADDRESSES: You may examine the AD on the Internet at http://www.regulations.gov/#!docketDetail;D=FAA-2013-0370; or in person at the U.S. Department of Transportation, Docket Operations, M-30, West Building Ground Floor, Room W12-140, 1200 New Jersey Avenue SE., Washington, DC.

For service information identified in this AD, contact Bombardier, Inc., 400 Côte-Vertu Road West, Dorval, Québec H4S 1Y9, Canada; telephone 514-855-5000; fax 514-855-7401; email thd.crj@aero.bombardier.com; Internet http://www.bombardier.com. You may review copies of the referenced service information at the FAA, Transport Airplane Directorate, 1601 Lind Avenue SW., Renton, WA. For information on the availability of this material at the FAA, call 425-227-1221.

FOR FURTHER INFORMATION CONTACT: Cesar Gomez, Aerospace Engineer, Airframe and Mechanical Systems Branch, ANE-171, FAA, New York Aircraft Certification Office, 1600 Stewart Avenue, Suite 410, Westbury, New York 11590; telephone (516) 228-7318; fax (516) 794-5531.

SUPPLEMENTARY INFORMATION:

Discussion

We issued a notice of proposed rulemaking (NPRM) to amend 14 CFR part 39 to include an AD that would apply to the specified products. The NPRM published in the Federal Register on May 10, 2013 (78 FR 27314). The NPRM proposed to correct an unsafe condition for the specified products.

Transport Canada Civil Aviation (TCCA), which is the aviation authority for Canada, has issued Canadian Airworthiness Directive CF-2013-01, dated January 22, 2013 (referred to after this as the Mandatory Continuing Airworthiness Information, or “the MCAI”), to correct an unsafe condition for the specified products. The MCAI states:

It was found that traces of oil could be present in the crew oxygen system due to the use of incorrect pressure testing procedures during manufacturing. Field sampling of nine aeroplanes have confirmed this condition. When the oxygen system is used, oil contaminants can cause an ignition and result in a fire in the oxygen system.

This [Canadian] AD mandates the cleaning of the crew oxygen system to reduce oil contaminants to a safe level.

You may examine the MCAI in the AD docket on the Internet at http://www.regulations.gov/#!documentDetail;D=FAA-2013-0370-0002.

Comments

We gave the public the opportunity to participate in developing this AD. We considered the comments received.

Request to Revise the NPRM (78 FR 27314, May 10, 2013) Based On New Service Information

ExpressJet requested the NPRM (78 FR 27314, May 10, 2013) be revised due to a new revision of the service information. ExpressJet stated that since the NPRM was issued, Bombardier Service Bulletin 670BA-35-012, Revision B, including Appendix A, dated May 6, 2013, has been released.

We agree with ExpressJet's request to use Bombardier Service Bulletin 670BA-35-012, Revision B, including Appendix A, dated May 6, 2013. We have updated paragraph (g) of this final rule in this regard. We have also added a new paragraph (h) to this final rule to give credit for actions done before the effective date of this AD using Bombardier Service Bulletin 670BA-35-012, dated August 3, 2012; and Bombardier Service Bulletin 670BA-35-012, Revision A, dated November 26, 2012. Subsequent paragraphs have been redesignated accordingly.

Request To Revise the Compliance Time

The Air Line Pilots Association (ALPA) requested we revise the compliance time. ALPA stated it understands the requirements of the NPRM (78 FR 27314, May 10, 2013) take 51 work-hours per product, but stated that the safety benefit would necessitate a compliance time of between 12 and 24 months.

We do not agree with ALPA's request. We determined that the proposed compliance time of “within 6,600 flight hours or 36 months after the effective date of this AD, whichever occurs first” is appropriate in consideration of the safety implications, the average utilization rate of the affected fleet, and the practical aspects of an orderly cleaning of the crew oxygen system. In addition, TCCA and Bombardier, Inc., reviewed the risks and found the compliance time to be adequate. We have not changed the final rule in this regard.

Conclusion

We reviewed the available data, including the comments received, and determined that air safety and the public interest require adopting this AD with the changes described previously and minor editorial changes. We have determined that these changes:

• Are consistent with the intent that was proposed in the NPRM (78 FR 27314, May 10, 2013) for correcting the unsafe condition; and

• Do not add any additional burden upon the public than was already proposed in the NPRM (78 FR 27314, May 10, 2013).

Costs of Compliance

We estimate that this AD affects 400 airplanes of U.S. registry.

We estimate the following costs to comply with this AD:

Estimated Costs
Action | Labor cost | Parts cost | Cost per product | Cost on U.S. operators
Cleaning the Crew Oxygen System | 51 work-hours × $85 per hour = $4,335 | $827 | $5,162 | $2,064,800

Where the service information lists required parts costs that are covered under warranty, we have assumed that there will be no charge for these costs. As we do not control warranty coverage for affected parties, some parties may incur costs higher than estimated here.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the MCAI in the AD docket on the Internet at http://www.regulations.gov/#!documentDetail;D=FAA-2013-0370-0002; or in person at the Docket Operations office between 9 a.m. and 5 p.m., Monday through Friday, except Federal holidays. The AD docket contains this AD, the MCAI, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-26-02 Bombardier, Inc.: Amendment 39-17711. Docket No. FAA-2013-0370; Directorate Identifier 2013-NM-034-AD.

(a) Effective Date

This airworthiness directive (AD) becomes effective February 3, 2014.

(b) Affected ADs

None.

(c) Applicability

This AD applies to Bombardier, Inc. Model CL-600-2C10 (Regional Jet Series 700, 701, & 702) airplanes, serial numbers 10002 through 10265 inclusive; and Model CL-600-2D15 (Regional Jet Series 705) and CL-600-2D24 (Regional Jet Series 900) airplanes, serial numbers 15002 through 15153 inclusive, 15156, and 15157; certificated in any category.

(d) Subject

Air Transport Association (ATA) of America Code 35, Oxygen.

(e) Reason

This AD was prompted by a report that traces of oil could be found in the crew oxygen system due to the use of incorrect pressure testing procedures during manufacturing. We are issuing this AD to detect and correct oil contaminants, which could cause an ignition and result in a fire in the oxygen system.

(f) Compliance

You are responsible for having the actions required by this AD performed within the compliance times specified, unless the actions have already been done.

(g) Actions

Within 6,600 flight hours or 36 months after the effective date of this AD, whichever occurs first: Clean the crew oxygen system, in accordance with the Accomplishment Instructions of Bombardier Service Bulletin 670BA-35-012, Revision B, including Appendix A, dated May 6, 2013.

(h) Credit for Previous Actions

This paragraph provides credit for actions required by paragraph (g) of this AD, if those actions were performed before the effective date of this AD using Bombardier Service Bulletin 670BA-35-012, dated August 3, 2012; or Bombardier Service Bulletin 670BA-35-012, Revision A, dated November 26, 2012; which are not incorporated by reference in this AD.

(i) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the New York ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

(1) Refer to Mandatory Continuing Airworthiness Information (MCAI) Canadian Airworthiness Directive CF-2013-01, dated January 22, 2013, for related information. You may examine the MCAI in the AD docket on the Internet at http://www.regulations.gov/#!documentDetail;D=FAA-2013-0370-0002.

(2) Service information identified in this AD that is not incorporated by reference may be obtained at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 670BA-35-012, Revision B, including Appendix A, dated May 6, 2013.

(ii) Reserved.

(3) For service information identified in this AD, Bombardier, Inc., 400 Côte-Vertu Road West, Dorval, Québec H4S 1Y9, Canada; telephone 514-855-5000; fax 514-855-7401; email thd.crj@aero.bombardier.com; Internet http://www.bombardier.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 11, 2013.
John P. Piccola,
Acting Manager, Transport Airplane Directorate, Aircraft Certification Service.

[FR Doc. 2013-30288 Filed 12-27-13; 8:45 am]

BILLING CODE 4910-13-P